DEPARTMENT OF THE INTERIOR

Bureau of Land Management

[LLWO250000.L12200000.PM0000]

Renewal of Approved Information Collection; Control No. 1004-0119

AGENCY: Bureau of Land Management, Interior.

ACTION: 60-Day notice and request for comments.

SUMMARY: In compliance with the Paperwork Reduction Act, the Bureau of Land Management (BLM) invites public comments on, and plans to request approval to continue, the collection of information needed to evaluate and process applications for commercial, competitive, and organized group recreational uses of the public lands, and individual use of special areas. The Office of Management and Budget (OMB) has assigned control number 1004-0119 to this information collection.

DATES: Please submit comments on the proposed information collection by August 15, 2016.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0119” regardless of the form of your comments.

FOR FURTHER INFORMATION CONTACT: David Ballenger, at 202-912-7642. Persons who use a telecommunication device for the deaf (TDD) may call the Federal Information Relay Service (FIRS) at 1-800-877-8339, to leave a message for Mr. Ballenger.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Permits for Recreation on Public Lands (43 CFR part 2930).

OMB Control Number: 1004-0119.

Summary: This notice pertains to an information collection that is necessary for the management of recreation on public lands. The BLM is required to manage commercial competitive and organized group recreational uses of the public lands, and individual use of special areas. This information allows the BLM to collect the required information to authorize and collect fees for recreation use on public lands. The currently approved information collection consists of the collection of non-form information in accordance with 43 CFR part 2930, and Form 2930-1 (Special Recreation Permit Application). Responses are required to obtain or retain a benefit.

Frequency of Collection: On occasion.

Forms: Form 2930-1, Special Recreation Permit Application.

Description of Respondents: Applicants for recreational use of public lands managed by the BLM.

Estimated Annual Responses: 1,376.

Estimated Annual Burden Hours: 5,504 hours (based on 4 hours per response and 1,376 responses).

Estimated Annual Non-Hour Costs: Respondents are not required to purchase additional computer hardware or software to comply with this information collection. Individual states and offices can charge an application fee to defray processing costs. The BLM estimated annual non-hour cost based on current application fees is $5,265.

Anna Atkinson,
Bureau of Land Management, Information Collection Clearance Officer.

[FR Doc. 2016-14093 Filed 6-14-16; 8:45 am]

BILLING CODE 4310-84-P